DEPARTMENT OF LABOR

Employment and Training Administration

[TA-W-37,823A]

Carleton Woolen Mills, Inc., New York, NY; Amended Certification Regarding Eligibility To Apply for Worker Adjustment Assistance

In accordance with Section 223 of the Trade Act of 1974 (19 U.S.C. 2273), the Department of Labor issued an Amended Certification of Eligibility to Apply for Worker Adjustment Assistance on October 31, 2000, applicable to workers of Carleton Woolen Mills, Inc., New York, New York. The notice will be published soon in the Federal Register.

At the request of the State agency, the Department reviewed the certification for workers of the subject firm. The workers provided administration, sales, styling, design and support function services for the subject firm's production facility in Winthrop, Maine. Findings show that the Department incorrectly set the worker certification impact date at July 23, 2000. The impact date should be June 14, 1999, one year prior to the date of the petition. Accordingly, the Department is amending the certification to reflect this matter.

The amended notice applicable to TA-W-37,823A is hereby issued as follows:

“All workers of Carleton Woolen Mills, Inc., New York, New York who became totally or partially separated from employment on or after June 14, 1999 through August 18, 2002 are eligible to apply for adjustment assistance under Section 223 of the Trade Act of 1974.”

Signed at Washington, DC this 8th day of November, 2000.
Linda G. Poole,
Certifying Officer, Division of Trade Adjustment Assistance.

[FR Doc. 00-29369 Filed 10-15-00; 8:45 am]

BILLING CODE 4510-30-M